DEPARTMENT OF LABOR

Employment and Training Administration

[TA-W-65,622]

Groat Brothers, Inc., Woodland, WA; Notice of Termination of Investigation

Pursuant to Section 221 of the Trade Act of 1974, as amended, an investigation was initiated on March 18, 2009, in response to a petition filed on behalf of workers at Groat Brothers, Inc., Woodland, Washington.

The petitioner has requested that the petition be withdrawn. Consequently, the investigation has been terminated.

Signed at Washington, DC this 29th day of April 2009.
Elliott S. Kushner,
Certifying Officer, Division of Trade Adjustment Assistance.

[FR Doc. E9-11859 Filed 5-20-09; 8:45 am]

BILLING CODE 4510-FN-P